DEPARTMENT OF EDUCATION

[Docket No.: ED-2012-ICCD-0067]

Agency Information Collection Activities; Comment Request; Impact Evaluation of Math Professional Development

AGENCY: IES/NCES, Department of Education (ED).

ACTION: Notice.

SUMMARY: In accordance with the Paperwork Reduction Act of 1995 (44 U.S.C. chapter 3501 et seq.), ED is proposing a new information collection.

DATES: Interested persons are invited to submit comments on or before March 12, 2013.

ADDRESSES: Comments submitted in response to this notice should be submitted electronically through the Federal eRulemaking Portal at http://www.regulations.gov by selecting Docket ID number ED-2012-ICCD-0067 or via postal mail, commercial delivery, or hand delivery. Please note that comments submitted by fax or email and those submitted after the comment period will not be accepted. Written requests for information or comments submitted by postal mail or delivery should be addressed to the Acting Director of the Information Collection Clearance Division, U.S. Department of Education, 400 Maryland Avenue SW., LBJ, Room 2E105, Washington, DC 20202-4537.

FOR FURTHER INFORMATION CONTACT: Electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Impact Evaluation of Math Professional Development.

OMB Control Number: 1850-NEW.

Type of Review: New information collection.

Respondents/Affected Public: State, Local, or Tribal Governments.

Total Estimated Number of Annual Responses: 1,260.

Total Estimated Number of Annual Burden Hours: 2,211.

Abstract: This package requests clearance to recruit and collect data from districts, schools, and teachers for a study of math professional development. The study will provide important information about the implementation and impact of intensive, content-focused professional development on fourth grade teachers' content knowledge, classroom practice, and their students' achievement. The evaluation has an experimental design with teacher-level random assignment of a volunteer sample of approximately 200 fourth grade teachers in six districts to receive either the study's Professional Development (PD) or the district's “business-as-usual” PD. Findings will be presented in a final report scheduled for release in February 2016.

Dated: January 7, 2013.
Stephanie Valentine,
Acting Director, Information Collection Clearance Division, Privacy, Information and Records Management Services, Office of Management.

[FR Doc. 2013-00425 Filed 1-10-13; 8:45 am]

BILLING CODE 4000-01-P